DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) has submitted the following information collection request to the Office of Management and Budget (OMB) for review and clearance in accordance with the requirements of the Paperwork Reduction Act of 1995 (44 U.S.C. chapter 35). The submission describes the nature of the information collection, the categories of respondents, the estimated burden (i.e., the time, effort and resources used by respondents to respond) and cost, and includes the actual data collection instruments FEMA will use.

Title: Pre-Disaster Mitigation (PDM) Grant Program/eGrants.

OMB Number: 1660-0071.

Abstract: FEMA uses the PDM program eGrants application, evaluation, and award process to provide Federal grant assistance to grantees (State and federally-recognized tribal government) who administer grant awards for sub-grantee applicants (State-level agencies, federally recognized Indian Tribal governments, local governments, public colleges and universities, tribal colleges and universities, and regional planning districts and councils of governments). Private-non-profit (PNP) organizations and private colleges and universities are not eligible sub-applicants; however, a relevant State agency or local government may apply to the grant applicant for assistance on their behalf. The grant assistance must be used to: develop mitigation plans in accordance with section 322 of the Disaster Mitigation Act of 2000, implement pre-disaster mitigation projects that reduce the risks of natural and technological hazards on life and property, and provide information and technical assistance on cost-effective mitigation activities.

Affected Public: State, local or tribal government.

Number of Respondents: 56 States.

Number of Responses: 1,176.

Estimated Time per Respondent: FEMA has estimated the burden associated with this information collection request as follows:

Pre-Disaster Mitigation (PDM) Program eGrants—Grant Supplemental Information—Sub-grant applications.

• Benefit Cost Determination—5 hours per response.

• Environmental Review—7.5 hours per response.

• Project Narrative (including PDM Evaluation Information Questions)—12 hours per response.

Estimated Total Annual Burden Hours: 50,887.

Frequency of Response: On occasion and quarterly.

Comments: Interested persons are invited to submit written comments on the proposed information collection to the Office of Information and Regulatory Affairs, Office of Management and Budget, Attention: Desk Officer for the Department of Homeland Security/Emergency Preparedness and Response Directorate/FEMA, Docket Library, Room 10102, 725 17th Street, NW., Washington, DC 20503 or facsimile number (202) 395-7285. Comments must be submitted on or before May 2, 2005.

FOR FURTHER INFORMATION CONTACT: Requests for additional information or copies of the information collection should be made to Muriel B. Anderson, Chief, Records Management Section, FEMA, 500 C Street, SW., Room 316, Washington, DC 20472; facsimile number (202) 646-3347; or, e-mail address FEMA-Information-Collections@dhs.gov.

Dated: March 22, 2005.
George S. Trotter,
Acting Branch Chief, Information Resources Management Branch, Information Technology Services Division.

[FR Doc. 05-6437 Filed 3-31-05; 8:45 am]

BILLING CODE 9110-41-P